DEPARTMENT OF HEALTH AND HUMAN SERVICES

Health Resources and Services Administration

Meeting of the Advisory Committee on Heritable Disorders in Newborns and Children; Correction

AGENCY: Health Resources and Services Administration (HRSA), Department of Health and Human Services.

ACTION: Notice; correction.

SUMMARY: HRSA published a document in the Federal Register of January 9, 2024, concerning a meeting of the Advisory Committee on Heritable Disorders in Newborns and Children. The document contained incorrect HRSA contact information for further information and an incorrect date for requests to provide a written or oral statement. The notice originally stated that for further information, contact Kim Morrison at 301-822-4978. The correct contact information should be: Kim Morrison at 240-485-8419. The notice originally stated that requests for public comment were due on Tuesday, January 17, 2024. The correct date for requests for public comment is Thursday, January 18, 2024.

FOR FURTHER INFORMATION CONTACT: Kim Morrison, Maternal and Child Health Bureau, HRSA, 5600 Fishers Lane, Rockville, Maryland, 20857; 240-485-8419; or ACHDNC@hrsa.gov.

SUPPLEMENTARY INFORMATION:

Correction

In the Federal Register of January 9, 2024, FR Doc. 2024-00264, page 1105, column 2, For Further Information Contact section, paragraph 1, correct the “Kim Morrison, Maternal and Child Health Bureau, HRSA, 5600 Fishers Lane, Room, Rockville, Maryland 20857; 301-822-4978; or ACHDNC@hrsa.gov” caption to read: “Kim Morrison, Maternal and Child Health Bureau, HRSA, 5600 Fishers Lane, Rockville, Maryland 20857; 240-485-8419; or ACHDNC@hrsa.gov.”

In the Federal Register of January 9, 2024, FR Doc. 2024-00264, page 1106, column 1, Supplementary Information section, paragraph 1, correct the “Requests to provide a written statement or make oral comments to ACHDNC must be submitted via the registration website by 12 p.m. ET on Tuesday, January 17, 2024” caption to read: “Requests to provide a written statement or make oral comments to ACHDNC must be submitted via the registration website by 12 p.m. ET on Thursday, January 18, 2024.”

Maria G. Button,
Director, Executive Secretariat.

[FR Doc. 2024-00739 Filed 1-16-24; 8:45 am]

BILLING CODE 4165-15-P